DEPARTMENT OF COMMERCE

National Oceanic and Atmospheric Administration (NOAA)

Marine Protected Areas Federal Advisory Committee; Public Meeting

AGENCY: Office of National Marine Sanctuaries (ONMS), National Ocean Service (NOS), National Oceanic and Atmospheric Administration (NOAA), Department of Commerce (DOC).

ACTION: Notice of open meeting.

SUMMARY: Notice is hereby given of a meeting of the Marine Protected Areas Federal Advisory Committee (Committee) in San Francisco, California.

DATES: The meeting will be held on Wednesday, January 17, 2018, from 9:00 a.m. to 5:00 p.m. through Friday, January 19, 2018, at 1 p.m. These times and the agenda topics described below are subject to change. Refer to the web page listed below for the most up-to-date meeting agenda.

ADDRESSES: The meeting will be held at the Argonaut Hotel, 495 Jefferson Street at Hyde, San Francisco, CA 94109.

FOR FURTHER INFORMATION CONTACT: Charles M. Wahle, Ph.D., Designated Federal Officer, MPA FAC, National Marine Protected Areas Center, 99 Pacific St., Suite 100-F, Monterey, CA 93940. (Phone: 831-647-6460; Fax: 831-647-1732; email: charles.wahle@noaa.gov; or visit the National MPA Center website at http://marineprotectedareas.noaa.gov/fac).

SUPPLEMENTARY INFORMATION: The Committee, composed of external, knowledgeable representatives of stakeholder groups, was established by the Department of Commerce (DOC) to provide advice to the Secretaries of Commerce and the Interior on implementation of Section 4 of Executive Order 13158, on marine protected areas (MPAs). The meeting is open to the public, and public comment will be accepted from 4:30 p.m. to 5:00 p.m. on Wednesday, January 17, 2018. In general, each individual or group will be limited to a total time of five (5) minutes. If members of the public wish to submit written statements, they should be submitted to the Designated Federal Officer by Friday, January 12, 2018.

Matters To Be Considered: This meeting will focus on: (i) Refining the Committee's charge and work plans for 2018-2019; (ii) identifying ways to enhance the impact of the Committee's recommendations and products; (iii) engaging with National Marine Sanctuary Advisory Council Chairs and other MPA programs to explore common approaches to emerging issues facing US MPAs; and, (iv) establishing subcommittees and working groups, as needed, to address the Committee's new charge. The agenda is subject to change. The latest version will be posted at http://marineprotectedareas.noaa.gov/fac.

Dated: December 21, 2017.
Rebecca Holyoke,
Deputy Director, Office of National Marine Sanctuaries, National Ocean Service, National Oceanic and Atmospheric Administration.

[FR Doc. 2017-28108 Filed 12-27-17; 8:45 am]

BILLING CODE 3510-NK-P